SMALL BUSINESS ADMINISTRATION

Annual Meeting of the Regional Small Business Regulatory Fairness Boards Office of the National Ombudsman

AGENCY: U.S. Small Business Administration (SBA).

ACTION: Notice of open meeting of the Regional Small Business Regulatory Fairness Boards.

SUMMARY: The SBA, Office of the National Ombudsman is issuing this notice to announce the location, date, time and agenda for the annual board meeting of the ten Regional Small Business Regulatory Fairness Boards (Regional Regulatory Fairness Boards). The meeting is open to the public.

DATES: The meeting will be held on the following dates: Monday, August 30, 2010 from 8:30 a.m. to 5 p.m. EST and on Tuesday, August 31, 2010 from 9 a.m. to 1 p.m. EST.

ADDRESSES: The meeting will be at the SBA Headquarters, 409 3rd Street, SW., Washington, DC 20416, in the Eisenhower Conference Room located on the 2nd Floor.

SUPPLEMENTARY INFORMATION: Pursuant to the Small Business Regulatory Enforcement Fairness Act (Pub. L. 104-121), Sec. 222, SBA announces the meeting of the Regional Regulatory Fairness Boards. The Regional Regulatory Fairness Boards are tasked to advise the National Ombudsman on matters of concern to small businesses relating to enforcement activities of agencies and to report on substantiated instances of excessive enforcement against small business concerns, including any findings or recommendations of the Board as to agency enforcement practice or policy.

The purpose of the meeting is to discuss the following topics related to the Regional Regulatory Fairness Boards:

—RegFair Board Member Duties, Responsibilities, and Standards of Conducting Briefing

—Regulatory Process for Federal Agencies

—Planning and Logistics of Hearings/Roundtables

—Media Relations and ONO Highlights

—Securing Comments and the Comment Process

—ONO Annual Report to Congress

—Federal Agency Partnerships Panel

—Small Business and Trade Policy Briefing

—The ONO from the Beginning to Present (1996-2010)

—Board Member Travel Reimbursement

FOR FURTHER INFORMATION CONTACT: The meeting is open to the public; however advance notice of attendance is requested. Anyone wishing to attend and/or make a presentation to the Regulatory Fairness Boards must contact Yolanda Swift by August 23, 2010 by fax or e-mail in order to be placed on the agenda. Yolanda.swift@sba.gov, Deputy National Ombudsman for Regulatory Enforcement Fairness, Office of the National Ombudsman, 409 3rd Street, SW., Suite 7125, Washington, DC 20416, phone (202) 205-6918, fax (202) 401-6128.

Additionally, if you need accommodations because of a disability or require additional information, please contact José Méndez, Case Management Specialist, Office of the National Ombudsman, 409 3rd Street, SW., Suite 7125, Washington, DC 20416, phone (202) 205-6178, fax (202) 401-2707, e-mail jose.mendez@sba.gov.

For more information on the Office of the National Ombudsman, please visit our Web site at http://www.sba.gov/ombudsman.

Dated: August 2, 2010.
Dan Jones,
SBA Committee Management Officer.

[FR Doc. 2010-19347 Filed 8-5-10; 8:45 am]

BILLING CODE P